DEPARTMENT OF HEALTH AND HUMAN SERVICES

Health Resources and Services Administration

Charter Renewal for the National Advisory Committee on Rural Health and Human Services

AGENCY: Health Resources and Services Administration (HRSA), Department of Health and Human Services (HHS).

ACTION: Notice.

SUMMARY: In accordance with the Federal Advisory Committee Act of 1972, HHS is hereby giving notice that the National Advisory Committee on Rural Health and Human Services (NACRHHS) has been renewed. The effective date of the charter renewal is October 29, 2021.

FOR FURTHER INFORMATION CONTACT: Sahira Rafiullah, Designated Federal Officer, Federal Office of Rural Health Policy, HRSA, 5600 Fishers Lane, 17W59D, Rockville, Maryland 20857; 301-443-7095; or SRafiullah@hrsa.gov.

SUPPLEMENTARY INFORMATION: The NACRHHS provides advice and recommendations to the Secretary of HHS (Secretary) on policy, program development, and other matters of significance concerning the activities under Section 222 of the Public Health Service Act, as amended, 42 U.S.C. 217a. Each year, the NACRHHS selects one or more topics upon which to focus during the year. By the end of the calendar year, the Committee produces a report or white papers with recommendations on that issue for the Secretary.

The NACRHHS charter renewal filing date is October 29, 2021. Renewal of the NACRHHS charter gives authorization for the committee to operate until October 29, 2023.

A copy of the NACRHHS charter is available on the NACRHHS website at https://www.hrsa.gov/advisory-committees/rural-health/. A copy of the charter also can be obtained by accessing the FACA database that is maintained by the Committee Management Secretariat under the General Services Administration. The website address for the FACA database is http://www.facadatabase.gov/.

Maria G. Button,
Director, Executive Secretariat.

[FR Doc. 2021-23829 Filed 11-1-21; 8:45 am]

BILLING CODE 4165-15-P